DEPARTMENT OF DEFENSE

Department of the Air Force

Air University Board of Visitors Meeting

The Air University Board of Visitors will hold an open meeting on November 12-15, 2000, with the first business session beginning at 8 a.m. in the Air University Conference Room at Headquarters Air University, Maxwell Air Force Base, Alabama (five seats are available).

The purpose of the meeting is to give the board an opportunity to review Air University educational programs and to present to the Commander, a report of their findings and recommendations concerning these programs.

For further information on this meeting, contact Dr. Dorothy Reed, Chief of Academic Affairs, Air University Headquarters, Maxwell Air Force Base, Alabama 36112-6335, telephone (334) 953-5159.

Janet A. Long,
Air Force Federal Register Liaison Officer.

[FR Doc. 00-26099 Filed 10-11-00; 8:45 am]

BILLING CODE 5001-05-P